DEPARTMENT OF THE INTERIOR

Fish and Wildlife Service

[FWS-R8-ES-2018-N032; FF08ESMF00-FXES11140800000-189]

Final Environmental Impact Statement, Final Habitat Conservation Plan; Yolo County, California

AGENCY: Fish and Wildlife Service, Interior.

ACTION: Notice of availability of final environmental impact statement and final habitat conservation plan.

SUMMARY: We, the U.S. Fish and Wildlife Service, announce the availability of a joint final environmental impact statement and final environmental impact report (final EIS/EIR) under the National Environmental Policy Act of 1967, as amended. We also announce the availability of the final habitat conservation plan (HCP) and California natural community conservation plan. These documents were prepared in support of a permit application submitted to us under the Endangered Species Act of 1973, as amended. We will use these documents to inform our decision regarding issuance of the permit.

DATES: A record of decision will be signed no sooner than 30 days after the publication of this notice of availability in the Federal Register.

ADDRESSES: Electronic copies of the HCP and final EIS/EIR are available at http://www.fws.gov/sacramento. Copies of these documents are also available for public inspection, during regular business hours, at the Sacramento Fish and Wildlife Office, 2800 Cottage Way, W 2605, Sacramento, CA 95825.

FOR FURTHER INFORMATION CONTACT: Address any questions to Mike Thomas, Chief, Conservation Planning Division, Sacramento Fish and Wildlife Office, (916) 414-6600, mike_thomas@fws.gov; or Eric Tattersall, Assistant Field Supervisor, (916) 414-6600, eric_tattersall@fws.gov. If you use a telecommunications device for the deaf, please call the Federal Relay Service at 800-877-8339.

SUPPLEMENTARY INFORMATION: The County of Yolo; the Cities of Davis, West Sacramento, Winters, and Woodland; and the Yolo Habitat Conservancy (collectively, the applicants) have applied for a 50-year incidental take permit (ITP) under the Endangered Species Act of 1973, as amended (ESA; 16 U.S.C. 1531 et seq.). The applicants prepared the final Yolo Habitat Conservation Plan and Natural Community Conservation Plan (HCP) pursuant to section 10(a)(1)(B) of the ESA and the California Natural Community Conservation Planning Act of 2002.

Background

Section 9 of the ESA (16 U.S.C. 1531 et seq.) and our Federal regulations (50 CFR part 17) prohibit the taking of fish and wildlife species listed as endangered or threatened under section 4 of the ESA. Regulations governing permits for endangered and threatened species are at 50 CFR 17.22 and 17.32, respectively. For more information about the Federal habitat conservation plan program, go to http://www.fws.gov/endangered/esa-library/pdf/hcp.pdf.

Proposed Action Alternative

The Service would issue an ITP to the applicants for a period of 50 years for certain covered activities. The applicants have requested an ITP for 12 covered species.

Plan Area

The HCP includes all lands within Yolo County, approximately 653,549 acres, and 1,174 acres in Solano County for a total combined area of 654,723 acres.

Covered Activities

The applicants are requesting incidental take authorization for 12 covered species that could be affected by covered activities identified in the HCP. The HCP covers the following five general categories of covered activities (collectively, Covered Activities):

1. Urban projects and activities, which include general urban development, urban public services, infrastructure, and utilities, and urban projects in rural areas.

2. Rural projects and activities, which include general rural development, rural public services, infrastructure, and utilities, agricultural economic development, aggregate mining, and open space.

3. Public and private operations and maintenance activities.

4. Conservation strategy implementation, which includes habitat restoration, management, and enhancement activities throughout the reserve system.

5. Neighboring landowner agreements.

Covered Species

Twelve species are included in the HCP as Covered Species. They include ESA-listed and non-ESA-listed species.

ESA Threatened

California tiger salamander (Central Valley Distinct Population Segment (DPS)) (Ambystoma californiense)

Valley elderberry longhorn beetle (Desmocerus californicus dimorphus)

Giant garter snake (Thamnophis gigas)

Western yellow-billed cuckoo (Coccyzus americanus occidentalis)

ESA Endangered

Least Bell's vireo (Vireo bellii pusillus)

Palmate-bracted bird's beak (Cordylanthus palmatus)

Non-ESA-Listed

Western pond turtle (Actinemys marmorata)

Swainson's hawk (Buteo swainsoni)

White-tailed kite (Elanus leucurus)

Western burrowing owl (Athene cunicularia hypugaea)

Bank swallow (Riparia riparia)

Tricolored blackbird (Agelaius tricolor)

National Environmental Policy Act Compliance

The final EIS/EIR was prepared to analyze the impacts of issuing an ITP based on the HCP and to inform the public of the proposed action, alternatives, and associated impacts and to disclose any irreversible commitments of resources. The final EIS/EIR analyzes three alternatives in addition to the proposed action described above. The other alternatives include a no-action (i.e., no ITP) alternative, a reduced take alternative, and a reduced development alternative. The final EIS/EIR includes all comments received on the draft EIS/EIR, draft HCP/NCCP, and responses to those comments.

Public Review

The Service published a notice of intent to prepare a joint environmental impact statement and environmental impact report in the Federal Register on October 21, 2011 (76 FR 65527), announcing a 45-day public scoping period, during which the public was invited to provide written comments and attend two public scoping meetings, which were held on November 7, 2011, in West Sacramento, California. The Service published a notice of availability (NOA) of the draft EIS/EIR and draft HCP/NCCP in the Federal Register on June 1, 2017 (82 FR 25302). The NOA announced a 90-day public comment period, during which the public was invited to provide written comments and attend two public meetings, which were held on June 27, 2017, and June 29, 2017. In accordance with NEPA, the Environmental Protection Agency (EPA) will announce the final EIS in the Federal Register.

Next Steps

Issuance of an ITP is a Federal proposed action subject to compliance with NEPA. We will evaluate the application, associated documents, and the public comments we received to determine whether the requirements of NEPA regulations and section 10(a) of the ESA have been met. If we determine that those requirements are met, we will issue a Record of Decision no sooner than 30 days after the EPA publishes notice of the final EIS in the Federal Register. Subsequently, we will issue a permit to the applicant for the incidental take of the Covered Species.

Authority

We publish this notice under the National Environmental Policy Act of 1969, as amended (42 U.S.C. 4321-4347 et seq.), and its implementing regulations at 40 CFR 1500-1508, as well as in compliance with section 10(c) of the Endangered Species Act (16 U.S.C. 1531 et seq.) and its implementing regulations at 40 CFR 17.22.

Michael Fris,
Assistant Regional Director, U.S. Fish and Wildlife Service, Pacific Southwest Region, Sacramento, California.

[FR Doc. 2018-09019 Filed 4-27-18; 8:45 am]

BILLING CODE 4333-15-P